DEPARTMENT OF DEFENSE

Office of the Secretary

[Transmittal No. 25-1L]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1L.

Dated: January 26, 2026.
Stephanie J. Bost,
Alternate OSD Federal Register Liaison Officer, Department of Defense.

BILLING CODE 6001-FR-P

BILLING CODE 6001-FR-C

Transmittal No. 25-1L

REPORT OF ENHANCEMENT OR UPGRADE OF SENSITIVITY OF TECHNOLOGY OR CAPABILITY (SEC. 36(B)(5)(C), AECA)

(i) Prospective Purchaser: Government of Poland

(ii) Sec. 36(b)(1), AECA Transmittal No.: 24-26

Date: March 12, 2024

Implementing Agency: Navy

Funding Source: National Funds

(iii) Description: On March 12, 2024, Congress was notified by congressional certification transmittal number 24-26 of the possible sale, under Section 36(b)(1) of the Arms Export Control Act, of two hundred thirty-two (232) AIM-9X Sidewinder Block II Tactical Missiles; and sixteen (16) AIM-9X Sidewinder Block II Tactical Missile Guidance Units. Also included were missile containers; training aids; active optical target detectors; spares; support equipment; missile support; United States (U.S.) Government and contractor technical assistance; and other related elements of logistics and program support. The estimated total cost was $219.1 million. Major Defense Equipment (MDE) constituted $181.3 million.

This transmittal notifies the inclusion of the following additional MDE items: one hundred and twenty (120) AIM-9X Sidewinder Block II tactical missiles. The following non-MDE items will also be included: missile containers; training aids; active optical target detectors; spares; support equipment; missile support; U.S. Government and contractor technical assistance; and other related elements of logistics and program support. The estimated total cost of the new items is $100.1 million. The estimated MDE value will increase by $80.1 million to a revised $261.4 million. The estimated non-MDE value will increase by $20 million to a revised $57.8 million. The estimated total case value increases by $100.1 million to a revised $319.2 million.

(iv) Significance: This notification is provided as the additional MDE items were not enumerated in the original notification. The inclusion of these items represents an increase in capability over what was previously notified. The proposed sale will support Poland's capability to meet current and future threats by providing more flexibility and maintaining Poland's capability to counter regional threats.

(v) Justification: This proposed sale will support the foreign policy and national security objectives of the U.S. by improving the security of a NATO Ally that is a force for political stability and economic progress in Europe.

(vi) Sensitivity of Technology:

The Sensitivity of Technology Statement contained in the original notification applies to items reported here.

The highest level of classification of defense articles, components, and services included in this potential sale is SECRET.

(vii) Date Report Delivered to Congress: November 4, 2025

[FR Doc. 2026-01716 Filed 1-28-26; 8:45 am]

BILLING CODE 6001-FR-P